DEPARTMENT OF AGRICULTURE

Sunshine Act Meetings

AGENCY: Rural Telephone Bank, USDA.

ACTION: Staff briefing for the Board of Directors.

Time and Date: 2 p.m., Thursday, November 4, 2004.

Place: Conference Room 104-A, Jamie L. Whitten Federal Building, U.S. Department of Agriculture, 12th & Jefferson Drive, SW., Washington, DC.

Status: Open.

Matters to be Discussed: 1. FY 2005 Budget status.

2. Year end Program report.

3. Privatization discussion.

4. Administrative and other issues.

Action: Board of Directors meeting.

Time and Date: 9 a.m., Friday, November 5, 2004.

Place: Conference Room 104-A, Jamie L. Whitten Federal Building, U.S. Department of Agriculture, 12th & Jefferson Drive, SW., Washington, DC.

Status: Open.

Matters to be Considered: The following matters have been placed on the agenda for the Board of Directors meeting:

1. Call to order.

2. Action on Minutes of the August 10, 2004, board meeting.

3. Secretary's Report on loans approved, FY 2004.

4. Treasurer's Report.

5. Privatization discussion.

6. Establish date for next Board meeting.

7. Governor's Remarks.

8. Adjournment.

Contact Person for More Information: Roberta D. Purcell, Assistant Governor, Rural Telephone Bank, (202) 720-9554.

Curtis M. Anderson,
Acting Governor, Rural Telephone Bank.

[FR Doc. 04-24159 Filed 10-25-04; 4:21 pm]

BILLING CODE 3410-15-P